DEPARTMENT OF HEALTH AND HUMAN SERVICES

National Institutes of Health

Office of the Director, National Institutes of Health; Notice of Partially Closed Meeting

Pursuant to section 1009 of the Federal Advisory Committee Act, as amended, notice is hereby given of a meeting of the Council of Councils.

This will be a hybrid meeting held in-person and virtually and will be partially open to the public as indicated below. Individuals who plan to attend in-person or view the virtual meeting and need special assistance or other reasonable accommodations, should notify the Contact Person listed below in advance of the meeting.Registration is not required to attend the open portions of this meeting and can be accessed from the NIH Videocast at the following link: https://videocast.nih.gov/.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Council of Councils.

Date: September 12-13, 2024.

Open: September 12, 2024, 9:00 a.m. to 11:15 a.m.

Agenda: Welcome and Opening Remarks; Announcements and NIH Program Updates.

Place: National Institutes of Health, Building 35A, 35 Convent Drive, Rooms 620/630/640, Bethesda, MD 20892 (In Person and Virtual).

Closed: September 12, 2024, 12:00 p.m. to 2:00 p.m.

Agenda: Review of Grant Applications.

Place: National Institutes of Health, Building 35A, 35 Convent Drive, Rooms 620/630/640, Bethesda, MD 20892 (In Person and Virtual).

Open: September 12, 2024, 2:15 p.m. to 3:45 p.m.

Agenda: Presentations and Other Business of the Committee.

Place: National Institutes of Health Building 35A, 35 Convent Drive, Rooms 620/630/640, Bethesda, MD 20892 (In Person and Virtual).

Open: September 13, 2024, 9:00 a.m. to 12:35 p.m.

Agenda: Welcome; Announcements; Presentations; and Other Business of the Committee.

Place: National Institutes of Health, Building 35A, 35 Convent Drive, Rooms 620/630/640, Bethesda, MD 20892 (In Person and Virtual).

Contact Person: Franziska Grieder, D.V.M., Ph.D., Executive Secretary, Council of Councils, Director, Office of Research Infrastructure Programs, Division of Program Coordination, Planning, and Strategic Initiatives, Office of the Director, NIH, 6701 Democracy Boulevard, Room 948, Bethesda, MD 20892, GriederF@mail.nih.gov, 301-435-0744.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Information is also available on the Council of Council's home page at http://dpcpsi.nih.gov/council/ where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: July 31, 2024.
Bruce A George,
Program Analyst, Office of Federal Advisory Committee Policy.

[FR Doc. 2024-17409 Filed 8-6-24; 8:45 am]

BILLING CODE 4140-01-P